DEPARTMENT OF COMMERCE

National Oceanic and Atmospheric Administration

[RTID 0648-XE354]

Council Coordination Committee Meeting

AGENCY: National Marine Fisheries Service (NMFS), National Oceanic and Atmospheric Administration (NOAA), Commerce.

ACTION: Notice of a public meeting; information regarding the agenda.

SUMMARY: The National Marine Fisheries Service, Office of Sustainable Fisheries will host a hybrid meeting of the Council Coordination Committee, also known as the CCC, consisting of the Regional Fishery Management Council chairs, vice chairs, and executive directors from October 16 to October 17, 2024. This meeting will be chaired by the Caribbean Fishery Management Council. The intent of this meeting is to discuss issues of relevance to the Councils and NMFS, including issues related to the implementation of the Magnuson-Stevens Fishery Conservation and Management Act (MSA).

DATES: The meeting will begin at 1 p.m., on Wednesday, October 16, 2024, and recess at 5 p.m., or when business is complete. The meeting will reconvene at 8:30 a.m., on Thursday, October 17, 2024, and adjourn at 5 p.m., or when business is complete.

ADDRESSES: Meeting address: The meeting will be held at the Doubletree—Crystal City hotel, 300 Army Navy Drive Arlington, VA 22202; telephone: (703)-418-6800. The meeting will also be broadcast via webinar. Connection details and public comment instructions will be available at https://www.fisheries.noaa.gov/event/2024-october-council-coordination-committee-meeting.

FOR FURTHER INFORMATION CONTACT: Diana Perry by email at Diana.Perry@noaa.gov or at (301) 427-7863.

SUPPLEMENTARY INFORMATION: The 2007 reauthorization of the MSA established the CCC. The CCC consists of the chairs, vice chairs, and executive directors of each of the eight Regional Fishery Management Councils, or their respective proxies. All sessions are open to the public and time will be set aside for public comments at the end of each day and after specific sessions at the discretion of the meeting Chair. The meeting Chair will announce public comment times and instructions to provide comment at the start of each meeting day. There will be opportunities for public comments to be provided in-person and remotely via webinar. Updates to this meeting, agenda materials, public comment instructions, and additional information will be posted on https://www.fisheries.noaa.gov/event/2024-october-council-coordination-committee-meeting.

Proposed Agenda

Wednesday, October 16, 2024—1 p.m.-5 p.m. EDT

1. Opening of Meeting

2. Approval of Agenda and Minutes

3. NMFS Update and Upcoming Priorities

4. NMFS Budget Update and 2025 Outlook

5. NMFS Science Update

6. Report of 8th Scientific Coordination Subcommittee Meeting and Update on Planning for 9th Scientific Coordination Subcommittee Meeting

7. Public Comment

Adjourn Day 1

Thursday, October 17, 2024—8:30 a.m.-5 p.m. EDT

1. Closed Session

2. Inflation Reduction Act Climate-Ready Fisheries Update

3. National Seafood Strategy Update

4. Legislative Outlook

5. Effects of Fishing Gear on Marine Habitats Database

6. Agency update on Equity and Environmental Justice (EEJ) Implementation plans and CCC EEJ Workgroup update

7. CCC Workgroups/Subcommittee Updates

8. Update: Anti-Harassment Policies, Addressing Unprofessional Behavior, Harassment Training

9. Agency National Environmental Policy Act (NEPA) update and CCC NEPA Working Group

10 International Fishing and Seafood Trade Issues

11. Public Comment

12. Wrap-up and Other Business

Adjourn Day 2

The order in which the agenda items are addressed may be adjusted by the meeting Chair to stay on time. The CCC will meet as late as necessary to complete scheduled business.

Special Accommodations

If you have particular access needs please contact Diana Perry (see FOR FURTHER INFORMATION CONTACT) prior to the meeting for accommodation.

Dated: October 1, 2024.
Karen H. Abrams,
Acting Director, Office of Sustainable Fisheries, National Marine Fisheries Service.

[FR Doc. 2024-23009 Filed 10-3-24; 8:45 am]

BILLING CODE 3510-22-P